DEPARTMENT OF COMMERCE

International Trade Administration

(A-357-812)

Honey from Argentina: Extension of Time Limit for Final Results of Antidumping Duty Administrative Review

AGENCY: Import Administration, International Trade Administration, Department of Commerce

EFFECTIVE DATE: March 12, 2009.

FOR FURTHER INFORMATION CONTACT: Deborah Scott or Robert James, AD/CVD Operations, Office 7, Import Administration, International Trade Administration, U.S. Department of Commerce, 14th Street and Constitution Avenue, NW, Washington, DC 20230; telephone: (202) 482-2657 or (202) 482-0649, respectively.

SUPPLEMENTARY INFORMATION: On December 30, 2008, the Department of Commerce (the Department) published the preliminary results of the administrative review of the antidumping duty order on honey from Argentina for the period December 1, 2006 through November 30, 2007. See Honey from Argentina: Preliminary Results of Antidumping Duty Administrative Review and Intent to Revoke Order in Part, 73 FR 79802 (December 30, 2008). The current deadline for the final results of this review is April 29, 2009.

Extension of Time Limits for Final Results

Section 751(a)(3)(A) of the Tariff Act of 1930, as amended (the Act), requires the Department to issue the final results of an administrative review within 120 days after the date on which the preliminary results were published. However, if it is not practicable to complete the review within this time period, section 751(a)(3)(A) of the Act allows the Department to extend the time limit for the final results up to 180 days from the date of publication of the preliminary results.

The Department finds that it is not practicable to complete this review within the original time frame due to additional analysis that must be performed with respect to respondent Patagonik S.A.'s cost of production and sales of subject merchandise. Consequently, and in accordance with section 751(a)(3)(A) of the Act and 19 CFR 351.213(h)(2), the Department is fully extending the time limit for completion of the final results of this administrative review by 60 days, to June 28, 2009. As this date falls on a Sunday, the final results are due June 29, 2009. See Notice of Clarification: Application of “Next Business Day” Rule for Administrative Determination Deadlines Pursuant to the Tariff Act of 1930, As Amended, 70 FR 24533 (May 10, 2005).

This notice is published in accordance with section 751(a)(3)(A) of the Act.

Dated: March 4, 2009.
John M. Andersen,
Acting Deputy Assistant Secretary for Antidumping and Countervailing Duty Operations.

[FR Doc. E9-5236 Filed 3-11-09; 8:45 am]

BILLING CODE 3510-DS-S